DEPARTMENT OF ENERGY

Federal Energy Regulatory Commission

[Project No. 13653-000]

Claverack Creek, LLC; Notice of Preliminary Permit Application Accepted for Filing and Soliciting Comments, Motions To Intervene, and Competing Applications

January 27, 2010.

On January 11, 2010, Claverack Creek, LLC filed an application, pursuant to section 4(f) of the Federal Power Act, proposing to study the feasibility of the Claverack Creek Hydroelectric Project No. 13653, to be located on Claverack Creek, in Columbia County, New York.

The proposed project would consist of: (1) The existing 16-foot-high, 170-foot-long Stottville Mill Dam; (2) an existing 11.4-acre impoundment with a normal water surface elevation of 106 feet mean sea level; (3) an existing turbine with a new generator and a new turbine-generator with a total capacity of 450 kilowatts; (4) an existing 10-foot-wide, 8-foot-deep intake canal; (5) new trash racks, head gates, and stop log structure; (6) an existing 6-foot-diameter, 10-foot-long penstock and a new 10-foot-long penstock extension; (7) a new 40-foot-wide, 60-foot-long powerhouse; (8) an existing 10-foot-wide, 20-foot-long tailrace; (9) a new approximately 200-foot-long, 13.2-kilovolt transmission line from the powerhouse to a nearby distribution line; (10) a redeveloped 100-foot-long access road; (11) and appurtenant facilities. The project would have an estimated annual generation of 2,182 megawatt-hours.

Applicant Contact: William Fay, 189 River Road, Ware, MA 01082, (413) 244-6445.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of the Commission's Web site at http://www.ferc.gov/docs-filing/elibrary.asp. Enter the docket number (P-13653) in the docket number field to access the document. For assistance, call toll-free 1-866-208-3372.

Kimberly D. Bose,
Secretary.

[FR Doc. 2010-2264 Filed 2-3-10; 8:45 am]

BILLING CODE 6717-01-P